SECURITIES AND EXCHANGE COMMISSION

Sunshine Act Meeting

Notice is hereby given, pursuant to the provisions of the Government in the Sunshine Act, Pub. L. 94-409, that the Securities and Exchange Commission will hold the following meetings during the week of August 4, 2003:

Closed Meetings will be held on Tuesday, August 5, 2003 at 2 p.m. and Thursday, August 7, 2003 at 11 a.m., and Open Meetings will be held on Wednesday, August 6, 2003 at 10 a.m. and Thursday August 7, 2003 at 10 a.m.

Commissioners, Counsel to the Commissioners, the Secretary to the Commission, and recording secretaries will attend the Closed Meetings. Certain staff members who have an interest in the matters may also be present.

The General Counsel of the Commission, or his designee, has certified that, in his opinion, one or more of the exemptions set forth in 5 U.S.C. 552b(c)(3), (5), (6), (7), (9)(B) and (10) and 17 CFR 200.402(a)(3), (5), (6), (7), (9)(ii) and (10), permit consideration of the scheduled matters at the Closed Meetings.

The subject matter of the Closed Meeting scheduled for Tuesday, August 5, 2003 will be:

Institution and settlement of administrative proceedings of an enforcement nature;

Institution and settlement of injunctive actions;

Formal Orders; and

Adjudicatory matter.

The subject matter of the Open Meeting scheduled for Wednesday, August 6, 2003 will be:

The Commission will consider whether to propose amendments to Item 7 of Schedule 14A under the Exchange Act of 1934. The amendments would require expanded disclosure related to the operation of board nominating committees and new disclosure concerning security holder communications with board members.

For further information, please contact Lillian Cummins, Division of Corporation Finance, at (202) 942-2900.

The subject matter of the Open Meeting scheduled for Thursday, August 7, 2003 will be:

The Commission will hear oral argument on an appeal by Carroll A. Wallace, C.P.A. from the decision of an administrative law judge. During the period covered by this Commission proceeding, Wallace was a partner in the Denver, Colorado office of the accounting firm of KMPG LLC.

Wallace has appealed the law judge's findings that Wallace recklessly engaged in improper professional conduct in violation of the Commission's Rule of Practice 102(e), 17 U.S.C. 201.102(e), with respect to KMPG's audits of The Rockies Fund, an investment company, for the years 1994 and 1995.

Among the issues likely to be argued are:

1. Whether respondent recklessly engaged in improper professional conduct; and

2. If respondent did recklessly engage in improper professional conduct, whether sanctions should be imposed in the public interest.

The subject matter of the Closed Meeting scheduled for Thursday, August 7, 2003 will be: Post-argument discussion.

At times, changes in Commission priorities require alterations in the scheduling of meeting items.

For further information and to ascertain what, if any, matters have been added, deleted, or postponed, please contact the Office of the Secretary at (202) 942-7070.

Dated: July 29, 2003.
Jonathan G. Katz,
Secretary.

[FR Doc. 03-19614 Filed 7-29-03; 11:41 am]

BILLING CODE 8010-01-P